ENVIRONMENTAL PROTECTION AGENCY

40 CFR Part 62

[GA51-200011b; FRL-6541-8]

Approval and Promulgation of State Plans For Designated Facilities and Pollutants: Georgia

AGENCY: Environmental Protection Agency (EPA).

ACTION: Proposed rule.

SUMMARY: EPA proposes to approve the section 111(d) Plan for the State of Georgia submitted by the Georgia Department of Natural Resources (DNR) on September 15, 1998, for implementing and enforcing the Emissions Guidelines applicable to existing Hospital/Medical/Infectious Waste Incinerators. The Plan was submitted by the Georgia DNR to satisfy certain Federal Clean Air Act requirements. In the Final Rules section of this Federal Register, EPA is approving the Georgia State Plan submittal as a direct final rule without prior proposal because the Agency views this as a noncontroversial submittal and anticipates that it will not receive any significant, material, and adverse comments. A detailed rationale for the approval is set forth in the direct final rule. If no significant, material, and adverse comments are received in response to this proposed rule, no further activity is contemplated in relation to this proposed rule. If EPA receives adverse comments, the direct final rule will be withdrawn and all public comments received will be addressed in a subsequent final rule based on this proposed rule. EPA will not institute a second comment period on this action.

DATES: Comments on this proposed rule must be received in writing by March 27, 2000.

ADDRESSES: Written comments should be addressed to Scott Martin at the EPA Regional Office listed below. Copies of the documents relevant to this proposed rule are available for public inspection during normal business hours at the following locations. The interested persons wanting to examine these documents should make an appointment with the appropriate office at least 24 hours before the day of the visit.

Environmental Protection Agency, Region 4, Air Planning Branch, 61 Forsyth Street, SW, Atlanta, Georgia 30303-3014. Scott Martin, (404) 562-9036.

Georgia Department of Natural Resources, Air Protection Branch, 4244 International Parkway, Suite 120, Atlanta, Georgia 30354

FOR FURTHER INFORMATION CONTACT: Scott Martin at (404) 562-9036 or Scott Davis at (404) 562-9127.

SUPPLEMENTARY INFORMATION: See the information provided in the direct final action which is located in the Rules section of this Federal Register and incorporated by reference herein.

Dated: February 10, 2000.
A. Stanley Meiburg,
Acting Regional Administrator, Region 4.

[FR Doc. 00-4230 Filed 2-24-00; 8:45 am]

BILLING CODE 6560-50-P